ENVIRONMENTAL PROTECTION AGENCY

[FRL-9748-6]

Proposed CERCLA Settlement Relating to the Digital Equipment Corp. Site a/k/a the PCB Horizon Site in San German, PR

AGENCY: Environmental Protection Agency (EPA).

ACTION: Notice; request for public comment.

SUMMARY: In accordance with Section 122(i) of the Comprehensive Environmental Response, Compensation, and Liability Act of 1980, as amended (“CERCLA”), notice is hereby given by the U.S. Environmental Protection Agency (“EPA”), Region 2, of a proposed Administrative Settlement Agreement for Recovery of Past Response Costs (“Agreement”) pursuant to Section 122(h)(1) of CERCLA, with the Puerto Rico Industrial Development Corporation (“Settling Party”). The Settling Party is a potentially responsible party, pursuant to Section 107(a) of CERCLA, and thus is potentially liable for response costs incurred or to be incurred at or in connection with the Digital Equipment Corp. Superfund Site, a/k/a the PCB Horizon Site (“Site”), located in San German, Puerto Rico. Under this Agreement, the Settling Party agrees to pay a total of $50,000 to EPA in two equal payments for past response costs in accordance with the following schedule. Within five business days after the Settling Party receives notice from EPA that this Agreement has been signed by EPA, the Settling Party shall deposit its first payment of $25,000.00 into an interest-bearing escrow account. If the Agreement is made effective after public comment, the Settling Party shall within fifteen (15) days arrange to have the money from the escrow account paid to EPA. The Settling Party shall make its second payment of $25,000.00 to EPA 180 days after the effective date of this Agreement. EPA will consider all comments received and may modify or withdraw its consent to the Agreement if comments received disclose facts or considerations that indicate that the proposed Agreement is inappropriate, improper, or inadequate. EPA's response to any comments received will be available for public inspection at EPA Region 2 offices, 290 Broadway, New York, New York 10007-1866.

DATES: Comments must be submitted on or before December 5, 2012.

ADDRESSES: The Agreement is available for public inspection at EPA Region 2 offices at 290 Broadway, New York, New York 10007-1866. Comments should reference the Digital Equipment Corp. Superfund Site, located in San German, Puerto Rico Index No. CERCLA-02-2012-2021. To request a copy of the Agreement, please contact the EPA employee identified below.

FOR FURTHER INFORMATION CONTACT: Beverly Kolenberg, Assistant Regional Counsel, New York/Caribbean Superfund Branch, Office of Regional Counsel, U.S. Environmental Protection Agency, 290 Broadway—17th Floor, New York, New York 10007-1866. Telephone: 212-637-3167, email at kolenberg.beverly@epa.gov.

Dated: October 16, 2012.
Walter E. Mugdan,
Director, Emergency and Remedial Response Division, U.S. Environmental Protection Agency, Region 2.

[FR Doc. 2012-26927 Filed 11-2-12; 8:45 am]

BILLING CODE 6560-50-P